DEPARTMENT OF DEFENSE

Department of the Army

Intent To Grant an Exclusive License of a U.S. Government-Owned Patent

AGENCY: Department of the army, DoD.

ACTION: Notice.

SUMMARY: In accordance with 35 U.S.C. 209 and 37 CFR 404.7(a)(1)(i), announcement is made of the intent to grant an exclusive, royalty-bearing, revocable license within the geographic area of the United States of America and its territories and possessions to U.S. Provisional Patent S.N. 60/533,375, filed April 13, 2004 entitled “Marburg Virus-Like Particles as a Vaccine for Prevention of Lethal Marburg Virus Disease,” U.S. Patent application 10/289,839, filed November 7, 2002 entitled “Generation of Virus-like Particles and Demonstration of Lipid Rafts as Sites of Filovirus Entry and Budding,” and U.S. Patent application 10/066,506, filed January 31, 2002 entitled, “Chimeric Filovirus Glycoprotein,” for the specific claims and use related to the virus-like particle technology described therein, to be limited to the field of use of developing and commercializing prophylactic (preventative) vaccines and immunotherapties (active and passive) against the Ebola and Marburg filoviruses, individually or jointly to Virionics Corporation with its principal place of business at 19108 Barksdale Court, Germantown, MD 20874-1526.

ADDRESSES: Commander, U.S. Army Medical Research and Materiel Command, ATTN: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: anyone wishing to object to the grant of this license can file written objections along with supporting evidence, if any, within 15 days from the date of this publication. Written objections are to be filed with the Command Judge Advocate, U.S. Army Medical Research and Materiel Command, 504 Scott Street, Fort Detrick, Frederick, MD 21702-5012.

Brenda S. Bowen,
Army Federal Register Liaison Officer.

[FR Doc. 05-5922 Filed 3-24-05; 8:45 am]

BILLING CODE 3710-08-M